DEPARTMENT OF TRANSPORTATION

Federal Aviation Administration

Notice of Availability of Consultation Documents for Public Comment Under Section 106 of the National Historic Preservation Act; Correction

AGENCY: Federal Aviation Administration (FAA), Department of Transportation (DOT).

ACTION: Notice; correction

SUMMARY: The Federal Aviation Administration, in cooperation with the National Park Service, published a document in the Federal Register on November 2, 2023, announcing the opportunity for the public to comment on the results of the FAA's efforts to identify historic properties, evaluate the properties' significance, and assess the undertaking's effects on them as part of the development of Air Tour Management Plan for Canyon de Chelly National Monument pursuant to the National Parks Air Tour Management Act of 2000 and its implementing regulations. The document contained an incorrect date regarding the comment deadline for the Consultation Documents for Public Comment Under Section 106 of the National Historic Preservation Act.

FOR FURTHER INFORMATION CONTACT: Sandra Fox, (202) 267-0928, Sandra.Y.Fox@faa.gov.

SUPPLEMENTARY INFORMATION:

Correction

In the Federal Register of November 2, 2023, in FR Doc. 2023-24191, on page 75364, in the second column, correct the DATES caption to read: DATES: Any member of the public is encouraged to provide views on this project to the agencies. The agencies will accept and consider comments related to section 106. Comments must be received on or before December 4, 2023, by 11:59 MDT. Comments will be received on the PEPC website. The Park's website link is https://parkplanning.nps.gov/CACHATMP.

Issued in Washington, DC, on November 28, 2023.
Sandra Fox,
Environmental Protection Specialist, FAA Office of Environment & Energy.

[FR Doc. 2023-26605 Filed 12-4-23; 8:45 am]

BILLING CODE 4910-13-P